FEDERAL MARITIME COMMISSION

Ocean Transportation Intermediary License Applicants

Notice is hereby given that the following applicants have filed with the Federal Maritime Commission an application for license as a Non-Vessel—Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel—Operating Common Carrier Ocean Transportation Intermediary Applicant:

Apex Shipping Co. (NYC), Inc., One Cross Island Plaza, Suite LL5A, Rosedale, NY 11422, Officers: Vicky Cheung, President (Qualifying Individual), Lena Cheung, Secretary.

Non-Vessel—Operating Common Carrier and Ocean Freight Forwarder Transportation Intermediary Applicant:

Triumph Link (USA), Inc., 10 Via Subida, Rancho Palos Verdes, CA 90275, Officers: Stan Chu, President (Qualifying Individual), Derek McDonald, Vice President.

Ocean Freight Forwarder—Ocean Transportation Intermediary Applicants:

Airwaves Global Logistics LLC, 181-15 Rockaway Blvd., Suite 204, Jamaica, NY 11434, Officer: Gordon Kastin, President (Qualifying Individual).

RD Shipping Multy Services Inc., 327 North Broad Street, Elizabeth, NJ 07208, Officers: Julio C. Madrid, President (Qualifying Individual), Bertha Triminio, Vice President.

Dated: March 10, 2006.
Bryant L. VanBrakle,
Secretary.

[FR Doc. E6-3752 Filed 3-14-06; 8:45 am]

BILLING CODE 6730-01-P